DEPARTMENT OF COMMERCE

National Oceanic and Atmospheric Administration

[I.D. 091400B]

Taking and Importing of Marine Mammals

AGENCY: National Marine Fisheries Service (NMFS), National Oceanic and Atmospheric Administration (NOAA), Commerce.

ACTION: Notice of embargo for Spain.

SUMMARY: The Assistant Administrator for Fisheries, NMFS, (Assistant Administrator) issued an embargo for the Government of Spain under the Marine Mammal Protection Act (MMPA) on October 6, 2000. This embargoes the importation into the United States of yellowfin tuna and yellowfin tuna products harvested in the eastern tropical Pacific Ocean (ETP) after March 3, 1999, by Spanish-flag purse seine vessels or vessels operating under Spanish jurisdiction and all other yellowfin tuna harvested by purse seine in the ETP exported from Spain. This embargo determination was made after considering documentary evidence submitted by the Government of Spain and obtained from the Inter-American Tropical Tuna Commission (IATTC). This embargo remains in effect until further notice.

DATES: Effective October 6, 2000.

ADDRESSES: Copies of this notice may be obtained by writing to Regional Administrator, Southwest Region, NMFS, 501 West Ocean Boulevard, Suite 4200, Long Beach, California 90802-4213.

FOR FURTHER INFORMATION CONTACT: Regional Administrator; Phone 562-980-4000; Fax 562-980-4018.

SUPPLEMENTARY INFORMATION: The MMPA, 16 U.S.C. 1361 et seq., as amended by the International Dolphin Conservation Program Act (IDCPA) (Pub. L. 105-42), allows the entry into the United States of yellowfin tuna harvested by purse seine vessels in the ETP under certain conditions. If requested by the harvesting nation, the Assistant Administrator will determine whether to make an affirmative finding based upon documentary evidence provided by the government of the harvesting nation, by the International Dolphin Conservation Program (IDCP), the IATTC, and/or the Department of State. An affirmative finding will remain valid for 1 year (generally April 1 through March 31) or for such other period as the Assistant Administrator may determine. The harvesting nation must submit an application directly to the Assistant Administrator for the first affirmative finding. The Assistant Administrator may require the submission of additional supporting documentation or verification of statements made in connection with requests to allow importations. An affirmative finding applies to tuna and tuna products that were harvested in the ETP by purse seine vessels of the nation, and applies to any yellowfin tuna harvested in the ETP purse seine fishery after March 3, 1999, the effective date of the IDCPA.

The affirmative finding process requires that the harvesting nation meet several conditions related to compliance with the IDCP. To issue an annual affirmative finding NMFS must receive the following information:

1. A statement requesting an affirmative finding;

2. Evidence of membership in the IATTC;

3. Evidence that a nation is meeting its obligations to the IATTC, including financial obligations;

4. Evidence that a nation is complying with the IDCP. For example, national laws or regulations implementing the Agreement on the IDCP and information that the nation is enforcing those laws and regulations;

5. Evidence of a tuna tracking and verification program comparable to the U.S. tracking and verification regulations at 50 CFR 216.94;

6. Evidence that the national fleet dolphin mortality limits (DMLs) were not exceeded in the previous calendar year;

7. Evidence that the national fleet per-stock per-year mortality limits, if they are allocated to countries, were not exceeded in the previous calendar year;

8. Authorization for the IATTC to release to the Assistant Administrator complete, accurate and timely information necessary to verify and inspect Tuna Tracking Forms; and

9. Authorization for the IATTC to release to the Assistant Administrator information demonstrating whether the nation is meeting its obligations of membership to the IATTC and whether the nation is meeting its obligations under the IDCP including managing (not exceeding) its national fleet DMLs or its national fleet per-stock per-year mortality limits. A nation may opt to provide this information directly to NMFS on an annual basis or to authorize the IATTC to release the information to NMFS in years when NMFS will review and consider whether to issue an affirmative finding determination without an application from the harvesting nation.

An affirmative finding will be terminated, in consultation with the Secretary of State, if the Assistant Administrator determines that the requirements of 50 CFR 216.24(f)(9) are no longer being met or that a nation is consistently failing to take enforcement actions on violations which diminish the effectiveness of the IDCP. Every 5 years, the Government of the harvesting nation, must request an affirmative finding and submit the required documentary evidence directly to the Assistant Administrator.

The Assistant Administrator reviewed the application and documentary evidence submitted by the Government of Spain and determined that the requirements under the MMPA to receive an affirmative finding have not been met. On October 6, 2000, after consultation with the Department of State, NMFS issued an embargo on yellowfin tuna and products derived from yellowfin tuna harvested in the ETP by Spanish-flag purse seine vessels or vessels under Spanish jurisdiction after March 3, 1999, and all other yellowfin tuna harvested by purse seine in the ETP exported from Spain to be imported into the United States.

The Assistant Administrator may reconsider a finding upon request from, and the submission of additional information by, a harvesting nation, if the information indicates that the nation has met the requirements under 50 CFR 216.24(f)(9).

Dated: October 6, 2000.
William T. Hogarth,
Deputy Assistant Administrator for Fisheries, National Marine Fisheries Service.

[FR Doc. 00-26405 Filed 10-13-00; 8:45 am]

BILLING CODE 3510-22-S